DEPARTMENT OF TRANSPORTATION

Federal Aviation Administration

14 CFR Part 71

[Docket No. FAA-2024-2440; Airspace Docket No. 24-ANM-86]

RIN 2120-AA66

Modification of Class D and Class E Airspace; Abbotsford Airport, Abbotsford, BC

AGENCY: Federal Aviation Administration (FAA), DOT.

ACTION: Final rule; correction.

SUMMARY: The FAA is correcting a final rule that published in the Federal Register on December 11, 2024. The final rule modified administrative portions of the Class D and Class E airspace legal descriptions for Abbotsford Airport, Abbotsford, BC. This action corrects errors in the Class D airspace legal description.

DATES: Effective date 0901 UTC, February 20, 2025. The Director of the Federal Register approves this incorporation by reference action under 1 CFR part 51, subject to the annual revision of FAA Order JO 7400.11 and publication of conforming amendments.

ADDRESSES: FAA Order JO 7400.11J and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

History

The FAA published a final rule in the Federal Register (89 FR 99700; December 11, 2024) for Docket FAA-2024-2440, which modified Class D and Class E airspace at Abbotsford Airport, Abbotsford, BC. Subsequent to publication, the FAA identified that line four of the Class D airspace legal description contained the incorrect geographic location for the Vancouver very high frequency omnidirectional range/tactical air navigation (VORTAC). This action corrects the error by removing the reference to the Vancouver VORTAC and replacing it with “Point in Space B” for description purposes.

Correction to the Final Rule

In FR Doc 2024-29085 at 99702, published in the Federal Register on December 11, 2024, the FAA makes the following corrections:

1. On page 99702, in the first column, correct the Class D airspace legal description to read as follows:

ANM WA D Lynden, WA [Corrected]

Abbotsford Airport, BC

(Lat. 49°01′31″ N, long. 122°21′36″ W)

Point in Space A

(Lat. 49°01′31″ N, long. 122°21′48″ W)

Point in Space B

(Lat. 49°04′45″ N, long. 123°09′14″ W)

Vancouver International Airport, BC

(Lat. 49°11′41″ N, long. 123°11′02″ W)

That airspace extending upward from the surface to 2,500 feet MSL beginning at lat. 48°57′59″ N, long. 122°18′57″ W, thence counterclockwise along the 4-mile radius of Point in Space A to lat. 49°00′05″ N, long. 122°16′08″ W, thence west along the U.S./Canadian border to lat. 49°00′05″ N, long. 122°45′58″ W, thence clockwise along the 16-mile arc of Point in Space B to lat. 48°57′59″ N, long. 122°47′12″ W, thence east along lat. 48°57′59″ N to the point of beginning, excluding the airspace below 1,500 feet MSL and west of long. 122°33′50″ W, the airspace within the Vancouver International Airport Class C airspace area, and the airspace overlying the territory of Canada.

Issued in Des Moines, Washington, on February 6, 2025.
B.G. Chew,
Group Manager, Operations Support Group, Western Service Center.

[FR Doc. 2025-02460 Filed 2-11-25; 8:45 am]

BILLING CODE 4910-13-P